DEPARTMENT OF HEALTH AND HUMAN SERVICES

National Institutes of Health

National Institute of Arthritis and Musculoskeletal and Skin Diseases; Amended Notice of Meeting

Notice is hereby given of a change in the meeting of the Arthritis and Musculoskeletal and Skin Diseases Special Grants Review Committee, which was published in the Federal Register on May 07, 2019, 19927.

The Arthritis and Musculoskeletal and Skin Diseases Special Grants Review Committee Meeting held on June 18th-19th, 2019 notice is amended due to its change in location. The new location is the Bethesda Marriott Suites. The meeting is closed to the public.

Dated: May 14, 2019.
Sylvia L. Neal,
Program Analyst, Office of Federal Advisory Committee Policy.

[FR Doc. 2019-10374 Filed 5-17-19; 8:45 am]

BILLING CODE 4140-01-P